DEPARTMENT OF HEALTH AND HUMAN SERVICES

Administration for Children and Families

Invitation to Comment on Proposed Data Composites and Potential Performance Areas and Measures for the Child and Family Services Review

AGENCY: Children's Bureau (CB), Administration on Children, Youth and Families (ACYF), Administration for Children and Families (ACF), Department of Health and Human Services.

ACTION: Correction notice to the following action: Invitation to comment on proposed data composites and potential performance areas and measures for the Federal Child and Family Services Review (CFSR).

Corrective Action: The initial publication in the Federal Register on November 7, 2005 (70 FR 67479) inadvertently omitted the date that the comments are due to the Children's Bureau. The due date for comments is December 7, 2005.

Dated: November 17, 2005.
Reginia H. Ryan,
Director, Executive Secretariat, ACYF.

[FR Doc. 05-23206 Filed 11-21-05; 8:45 am]

BILLING CODE 4184-01-P